FEDERAL COMMUNICATIONS COMMISSION

Open Commission Meeting, Friday, October 25, 2019

October 18, 2019.

The Federal Communications Commission will hold an Open Meeting on the subjects listed below on Friday, October 25, 2019, which is scheduled to commence at 10:30 a.m. in Room TW-C305, at 445 12th Street SW, Washington, DC.

Item No. | Bureau | Subject
1 | Wireline Competition | Title: Connect America Fund (WC Docket No. 10-90).
|  | Summary: The Commission will consider an Order on Reconsideration that would ensure that carriers receiving high-cost universal service support to deploy rural broadband are accountable to consumers, taxpayers, and the Commission, while providing flexibility for smaller carriers, by making targeted modifications to the testing procedures that carriers must use to show that their networks perform at the Commission's speed and latency standards.
2 | Wireline Competition | Title: BellSouth's Petition for Declaratory Ruling Regarding the Commission's Definition of Interconnected VoIP in 47 C.F.R. 9.3 and the Prohibition on State Imposition of 911 Charges on VoIP Customers in 47 U.S.C. 615a-1(f)(1) (WC Docket No. 19-44); Petition for Declaratory Ruling in Response to Primary Jurisdiction Referral, Autauga County Emergency Management Communication District et al. v. BellSouth Telecommunications, LLC, No. 2:15-cx-00765-SGC (N.D. Ala.).
|  | Summary: The Commission will consider a Declaratory Ruling that clarifies section 6(f)(1) of the New and Emerging Technologies 911 Improvement Act of 2008 and ensures regulatory parity in 911 fees between VoIP services and traditional telecommunications services.
3 | Media | Title: Use of Common Antenna Site—Sections 73.239 and 73.635 (MB Docket No. 19-282); Modernization of Media Regulation Initiative (MB Docket No. 17-105).
|  | Summary: The Commission will consider a Notice of Proposed Rulemaking that seeks comment on whether the common antenna siting rules for FM and TV broadcaster applicants and licensees are necessary given the current broadcasting marketplace.
4 | Media | Title: Petition for Determination of Effective Competition in 32 Massachusetts Communities and Kauai, HI (HI0011) (MB Docket No. 18-283).
|  | Summary: The Commission will consider a Memorandum Opinion and Order that grants the petition of Charter and finds that Charter faces effective competition in providing cables services in franchise areas in Massachusetts and Hawaii.
5 | Wireline Competition | Title: Reform of Certain Part 61 Tariff Rules (WC Docket No. 18-276); Petitions for Limited Waiver of Rule 61.74(a) (WC Docket No. 17-308).
|  | Summary: The Commission will consider a Report and Order that would amend its tariffing rules to better align them with the reality of easy electronic access to tariff filings.
6 | Public Safety & Homeland Security | Title: Improving Public Safety Communications in the 800 MHz Band (WT Docket No. 02-55).
|  | Summary: The Commission will consider an Order and Sixth Further Notice of Proposed Rulemaking that would streamline rules and procedures to expedite the successful completion of the 800 MHz band reconfiguration initiative, lower program costs and administrative burdens, and continue to alleviate interference to public safety licensees.
7 | Office of Managing Director | Title: Personnel Action #19-34.
|  | Summary: The Commission will consider a personnel action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Federal Communications Commission.

Marlene Dortch,
Secretary, Office of the Secretary.

[FR Doc. 2019-23497 Filed 10-25-19; 8:45 am]

BILLING CODE 6712-01-P